Title 3—

The President

Proclamation 8932 of February 1, 2013

100th Anniversary of the Birth of Rosa Parks

By the President of the United States of America

A Proclamation

On December 1, 1955, our Nation was forever transformed when an African-American seamstress in Montgomery, Alabama, refused to give up her seat on a city bus to a white passenger. Just wanting to get home after a long day at work, Rosa Parks may not have been planning to make history, but her defiance spurred a movement that advanced our journey toward justice and equality for all.

Though Rosa Parks was not the first to confront the injustice of segregation laws, her courageous act of civil disobedience sparked the Montgomery Bus Boycott—381 days of peaceful protest when ordinary men, women, and children sent the extraordinary message that second-class citizenship was unacceptable. Rather than ride in the back of buses, families and friends walked. Neighborhoods and churches formed carpools. Their actions stirred the conscience of Americans of every background, and their resilience in the face of fierce violence and intimidation ultimately led to the desegregation of public transportation systems across our country.

Rosa Parks's story did not end with the boycott she inspired. A lifelong champion of civil rights, she continued to give voice to the poor and the marginalized among us until her passing on October 24, 2005.

As we mark the 100th anniversary of Rosa Parks's birth, we celebrate the life of a genuine American hero and remind ourselves that although the principle of equality has always been self-evident, it has never been self-executing. It has taken acts of courage from generations of fearless and hopeful Americans to make our country more just. As heirs to the progress won by those who came before us, let us pledge not only to honor their legacy, but also to take up their cause of perfecting our Union.

NOW, THEREFORE, I, BARACK OBAMA, President of the United States of America, by virtue of the authority vested in me by the Constitution and the laws of the United States, do hereby proclaim February 4, 2013, as the 100th Anniversary of the Birth of Rosa Parks. I call upon all Americans to observe this day with appropriate service, community, and education programs to honor Rosa Parks's enduring legacy.

IN WITNESS WHEREOF, I have hereunto set my hand this first day of February, in the year of our Lord two thousand thirteen, and of the Independence of the United States of America the two hundred and thirty-seventh.

[FR Doc. 2013-02854

Filed 2-5-13; 11:15 am]

Billing code 3295-F3